DEPARTMENT OF LABOR

Employment and Training Administration

Notice of an Open Meeting of the Advisory Committee on Apprenticeship (ACA)

AGENCY: Employment and Training Administration, Labor.

ACTION: Announcement of meeting.

SUMMARY: Pursuant to section 10 of the Federal Advisory Committee Act (Pub. L. 92-463; 5 U.S.C. App. 2), notice is hereby given to announce an open meeting of the Advisory Committee on Apprenticeship (ACA) being held on May 16-17, 2011, in Washington, DC.

The ACA, an advisory board to the Secretary of Labor, is a discretionary Committee established by the Secretary of Labor, in accordance with the provisions of the Federal Advisory Committee Act (FACA), as amended 5 U.S.C., App. 2, and it's implementing regulations (41 CFR parts 101-6 and 102-3). All meetings of the ACA are open to the public.

Time and Date: The meeting will begin at approximately 12:30 p.m. Eastern Standard Time on Monday, May 16, 2011, and continue until approximately 5 p.m. The meeting will reconvene on Tuesday, May 17, 2011, at approximately 8:30 a.m. Eastern Standard Time and adjourn at approximately 5 p.m.

ADDRESSES: The meeting location is the U.S. Department of Labor, Frances Perkins Building, 200 Constitution Avenue, NW., Washington, DC 20210.

FOR FURTHER INFORMATION CONTACT: The Designated Federal Official, Mr. John V. Ladd, Administrator, Office of Apprenticeship, ETA, U.S. Department of Labor, 200 Constitution Avenue, NW., Room N-5311, Washington, DC 20210. Telephone: (202) 693-2796, (this is not a toll-free number).

SUPPLEMENTARY INFORMATION: This meeting is open to the public and members of the public are invited to attend the proceedings. If individuals have special needs and/or disabilities that will require special accommodations, please contact Ms. Kenya Huckaby on (202) 693-3795 no later than Monday, May 9, 2011, to request for arrangements to be made. Any member of the public who wishes to file written data or comments pertaining to the agenda may do so by sending the data or comments to Mr. John V. Ladd, Administrator, Office of Apprenticeship, ETA, U.S. Department of Labor, Room N-5311, 200 Constitution Avenue, NW., Washington, DC 20210. Such submissions must be sent by Monday, May 9, 2011, to be included in the record for the meeting.

The agenda is subject to change due to time constraints and priority items which may come before the ACA between the time of this publication and the scheduled date of the ACA meeting.

Purpose of the Meeting and Topics To Be Discussed

The purpose of the meeting is to consider several policy matters affecting Registered Apprenticeship programs. The agenda will focus on the following topics:

• Workgroup Report-Outs and Open Committee Discussion

• Extended Discussion on Proposed Pre-Apprenticeship Framework

• Review of Available Data Capabilities

• Long-Term Planning

• Apprenticeship Community of Practice

• Public Comment

Any member of the public who wishes to speak at the meeting must indicate the nature of the intended presentation and the amount of time needed by furnishing a written statement to the Designated Federal Official, Mr. John V. Ladd, by Monday, May 9, 2011. The Chairperson will announce at the beginning of the meeting the extent to which time will permit the granting of such requests.

Signed at Washington, DC, this 22nd day of March 2011.
Jane Oates,
Assistant Secretary for the Employment and Training Administration.

[FR Doc. 2011-7153 Filed 3-25-11; 8:45 am]

BILLING CODE 4510-FR-P